SURFACE TRANSPORTATION BOARD

[Docket Nos. AB 1266X; AB 1267X; and AB 1276X]

Canonie Atlantic Co.—Abandonment Exemption—Hallwood to Cape Charles, Va.; Cassatt Management LLC d/b/a Bay Coast Railroad—Discontinuance of Service Exemption—Hallwood to Cape Charles, Va.; and Eastern Shore Railroad, Inc.—Discontinuance of Service Exemption—Hallwood to Cape Charles, Va.

On July 15, 2019, Cassatt Management, LLC d/b/a Bay Coast Railroad (BCR), Eastern Shore Railroad, Inc. (ESRR), and Canonie Atlantic Co. (CAC) ¹ filed with the Board a petition under 49 U.S.C. 10502 for exemption from the prior approval requirements of 49 U.S.C. 10903 for BCR and ESRR to discontinue their lease operations over, and for CAC to abandon, approximately 49.1 miles of rail line in Accomack and Northampton Counties, Va. (the Line).

¹ BCR, ESSR, and CAC are referred to collectively as Petitioners. The Petition states (Pet. 3 n.2) that CAC is acting on behalf of both ESRR (a wholly owned subsidiary of CAC) and BSR.

The Line is located between milepost 45.7 at Hallwood, Va., and the end of the line at milepost 94.8 at Cape Charles, Va., and the car float operation from Cape Charles to Little Creek, Va. The Line traverses U.S. Postal Service Zip Codes 23301, 23306, 23307, 23308, 23310, 23316, 23341, 23347, 23350, 23354, 23357, 23359, 23401, 23405, 23408, 23409, 23410, 23413, 23417, 23418, 23420, 23421, 23441, and 23480.

Petitioners state that, based on information in their possession, the Line does not contain any federally granted rights-of-way. Petitioners state that any documentation in their possession will be made available to those requesting it.

According to Petitioners, BCR terminated all operations on April 30, 2018, with little advance notice and without seeking prior Board approval. Petitioners state that the car float operation has been out of business since 2009, and that no shippers have used the Line for more than one year. Petitioners also state that there has been no overhead traffic for years, despite some efforts to develop that traffic.

Petitioners state that, because this transaction involves the discontinuance over and abandonment of the remainder of the Line (a whole line abandonment), the imposition of employee protective conditions is not required. (Pet. 14 (citing Wellsville, Addison & Galeton R.R.—Aban., 354 I.C.C. 744 (1978); Northampton & Bath R.R.—Aban., 354 I.C.C. 784 (1978)).)

By issuance of this notice, the Board is instituting an exemption proceeding pursuant to 49 U.S.C. 10502(b). A final decision will be issued by November 1, 2019.

Any offer of financial assistance (OFA) under 49 CFR 1152.27(b)(2) will be due no later than 120 days after the filing of the petition for exemption, or 10 days after service of a decision granting the petition for exemption, whichever occurs sooner. Persons interested in submitting an OFA must first file a formal expression of intent to file an offer by August 12, 2019, indicating the type of financial assistance they wish to provide (i.e., subsidy or purchase) and demonstrating that they are preliminarily financially responsible. See 49 CFR 1152.27(c)(1)(i).

Following authorization for abandonment, the Line may be suitable for other public use, including interim trail use. Any request for a public use condition under 49 CFR 1152.28 or for trail use/rail banking under 49 CFR 1152.29 will be due no later than August 24, 2019.²

² Filing fees for OFAs and trail use requests can be found at 49 CFR 1002.2(f)(25) and (27), respectively.

All pleadings, referring to Docket Nos. AB 1267, AB 1276, and AB 1266, must be filed with the Surface Transportation Board either via e-filing or in writing addressed to 395 E Street SW, Washington, DC 20423-0001. In addition, a copy of each pleading must be served on Petitioners' representatives, John D. Heffner and Sloane S. Carlough, Clark Hill PLC, 1001 Pennsylvania Avenue NW, Suite 1300 South, Washington, DC 20004. Replies to this petition are due on or before August 24, 2019.

Persons seeking further information concerning abandonment and discontinuance procedures may contact the Board's Office of Public Assistance, Governmental Affairs, and Compliance at (202) 245-0238 or refer to the full abandonment and discontinuance regulations at 49 CFR pt. 1152. Questions concerning environmental issues may be directed to the Board's Office of Environmental Analysis (OEA) at (202) 245-0305. Assistance for the hearing impaired is available through the Federal Relay Service at 1-800-877-8339.

An environmental assessment (EA) (or environmental impact statement (EIS), if necessary) prepared by OEA will be served upon all parties of record and upon any agencies or other persons who comment during its presentation. Other interested persons may contact OEA to obtain a copy of the EA (or EIS). EAs in abandonment proceedings normally will be made available within 60 days of the filing of the petition. The deadline for submission of comments on the EA generally will be within 30 days of its service.

Board decisions and notices are available at www.stb.gov.

Decided: July 29, 2019.
By the Board, Scott M. Zimmerman, Acting Director, Office of Proceedings.
Jeffrey Herzig,
Clearance Clerk.

[FR Doc. 2019-16542 Filed 8-1-19; 8:45 am]

BILLING CODE 4915-01-P